DEPARTMENT OF STATE

[Public Notice 9901]

U.S. Advisory Commission on Public Diplomacy: Notice of Meeting

The U.S. Advisory Commission on Public Diplomacy will hold a public meeting from 10:30 a.m. until 12:00 p.m., Thursday, March 16, 2017 in the Rayburn House Office Building, Room 2255 in Washington, DC 20515.

The meeting will be on “The Past, Present, and Future of Voice of America (VOA)” and will feature current Director of VOA Amanda Bennett, former VOA Director Geoff Cowan, and former Undersecretary for Public Diplomacy and Public Affairs James Glassman.

This meeting is open to the public, Members and staff of Congress, the State Department, Defense Department, the media, and other governmental and non-governmental organizations. To RSVP, and also to make any requests for reasonable accommodation, email pdcommission@state.gov by 5 p.m. on Tuesday, March 14, 2017. Please arrive for the meeting by 10:15 a.m. to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ambassador Lyndon Olson of Texas; Ambassador Penne Korth-Peacock of Texas; Anne Terman Wedner of Illinois; and Ms. Georgette Mosbacher of New York. One seat on the Commission is currently vacant.

To request further information about the meeting or the U.S. Advisory Commission on Public Diplomacy, you may contact its Senior Advisor, Chris Hensman, at HensmanCD@state.gov.

Shawn Powers,
U.S. Advisory Commission on Public Diplomacy, Department of State.

[FR Doc. 2017-04058 Filed 3-1-17; 8:45 am]

BILLING CODE 4710-11-P